DEPARTMENT OF EDUCATION

Office of Special Education and Rehabilitative Services, Overview Information; Research and Innovation To Improve Services and Results for Children With Disabilities—Evidence-Based Interventions for Severe Behavior Problems; Notice Inviting Applications for New Awards for Fiscal Year (FY) 2004

Catalog of Federal Domestic Assistance (CFDA) Number: 84.324P.

Applications Available: August 4, 2004.

Deadline for Transmittal of Applications: September 10, 2004.

Eligible Applicants: State educational agencies (SEAs); local educational agencies (LEAs); institutions of higher education (IHEs); other public agencies; nonprofit private organizations; outlying areas; freely associated States; and Indian tribes or tribal organizations.

Estimated Available Funds: $4,300,000.

Estimated Average Size of Awards: $1,075,000.

Maximum Award: We will reject any application that proposes a budget exceeding $1,075,000 for a single budget period of 12 months. The Assistant Secretary for Special Education and Rehabilitative Services may change the maximum amount through a notice published in the Federal Register.

Estimated Number of Awards: 4.

Note: The Department is not bound by any estimates in this notice.

Project Period: Up to 48 months.

Full Text of Announcement

I. Funding Opportunity Description

Purpose of Program: The purpose of this program is to produce, and advance the use of, knowledge to improve the results of education and early intervention for infants, toddlers, and children with disabilities.

Priority: In accordance with 34 CFR 75.105(b)(2)(iv), this priority is from allowable activities specified in the statute (see sections 661(e)(2) and 672 of the Individuals with Disabilities Education Act, as amended (IDEA)).

Absolute Priority: For FY 2004 this priority is an absolute priority. Under 34 CFR 75.105(c)(3), we consider only applications that meet this priority.

This priority is:

Research and Innovation to Improve Services and Results for Children with Disabilities—Evidence-Based Interventions for Severe Behavior Problems.

Background: Children with severe behavior problems often engage in behaviors that are disruptive in school environments and, at times, dangerous to themselves and others. Aggression, self-injurious behavior, and other disruptive behaviors pose a serious threat to efforts to help these individuals lead more independent lives. Behavior problems have been linked to initial referrals to institutions and increased recidivism for those individuals leaving institutional settings or those referred to crisis intervention programs from community placements. Behavior problems interfere with such essential activities as family life, employment, and educational activities.

There have been significant research advances in identifying procedures for reducing severe behavior problems—almost exclusively using behavioral approaches—and this research has expanded significantly over the past several decades. Theoretical formulations that incorporate the variables maintaining these behavior problems have informed research on assessment and intervention. Functional assessments (that determine why a child might be disruptive in a particular setting) and functionally-based interventions (such as teaching replacement skills and addressing environmental limitations) for assessing and treating behavior problems dominate the research literature and reviews of the effectiveness of these behavioral interventions are supportive of their use. Analyses of the research on positive behavioral support conclude that from one-half to two-thirds of the outcomes are successful.¹

¹ Carr, E.G., Horner, R.H., Turnbull, A.P., Marquis, J.G., McLaughlin, D.M., McAtee, M.L., Smith, C.E., Ryan, K.A., Ruef, M.B., & Doolabh, A. (1999). Positive behavior support for people with developmental disabilities: A research synthesis. Washington, DC: American Association on Mental Retardation.

The No Child Left Behind Act of 2001 (NCLB) encourages education decision-makers to base instructional practices and programs on scientifically based research. Yet, despite growing evidence of the potential of various behavioral interventions to reduce behavior problems, there is a need to better understand these interventions and document their strengths and limitations. The accumulated knowledge base primarily is derived from discovery-based research (identifying new intervention strategies) and community-based research (applying various strategies for a 2 limited number of students in community settings, such as schools). However, broad-based recommendations for practitioners and families cannot proceed without addressing population-based questions (e.g., what proportion of all children and what type of child will succeed with a particular intervention).

Important guidelines common to most outcome evaluations are often not adequately followed in behavioral intervention studies. For example, standardization in applying interventions among participants is rare. Instead, programs aimed at reducing severe behavior problems are frequently designed individually for each student. This lack of standardization limits the ability to make definitive recommendations about a particular intervention approach. Similar concerns can be applied to functional assessments and outcome data. Functional assessments are designed independently by each research group, and often without addressing the psychometric properties of the instruments. Traditional measures of interrater reliability and test-retest reliability as well as measures of validity are lacking in most functional assessments used in research programs. Outcomes assessed in most behavioral studies tend to rely solely on idiosyncratic observational data (e.g., frequency or duration of screaming), which makes the interpretation of results across studies problematic. Recent research using medical interventions use psychometrically sound rating scale data.² However, the exclusive reliance on this form of data makes judgments about the educational relevance of these findings suspect. Again, these concerns limit the ability to make generalizations about the role of functional assessment in intervention design and obscure conclusions about outcomes.

² Aman, M.G., De Smedt, G., Derivan, A., Lyons, B., Findling, R.L.; Risperidone Disruptive Behavior Study Group (2002). Double-blind, placebo-controlled study of risperidone for the treatment of disruptive behaviors in children with subaverage intelligence. American Journal of Psychiatry, 159, 1337-1346

Adequate information about the characteristics of successful and unsuccessful participants is also noticeably absent in this research literature. Contributing to this problem is the lack of information about selection and attrition in individual studies.³ Relatively low numbers of studies make mention of how they select those included in the research and few studies mention if they use procedures to reduce selection bias. Few studies indicate if participants drop out of treatment prematurely or assess potential subject characteristics that would predict differential attrition. This relative lack of information on important population-based questions calls into question the ability to generalize of otherwise positive outcome data on the treatment of behavior problems among students with severe behavior problems.⁴

³ Durand, V.M. (2002, September). Methodological challenges: Single subject designs. Presentation at the National Institutes of Health Conference—Research on Psychosocial and Behavioral Interventions in Autism: Confronting Methodological Challenges. Bethesda, MD.

⁴ ld.

Population-based educational research (including the use of randomized controlled trials—RCTs) is necessary to inform the field about the educational efficacy and effectiveness of interventions.⁵ Educational efficacy refers to research in which control has been exercised by the investigator over sample selection, the delivery of the intervention, and the conditions under which the intervention occurs.⁶ Efficacy research provides scientific evidence comparing an intervention's effects to other interventions, to non-specific intervention (e.g., “treatment as usual”), or to no intervention. Randomized experimental designs such as RCTs are recognized as the standards by which efficacy is assessed. Guidelines, including the CONSORT Statement,⁷ provide criteria for designing, analyzing and reporting the findings from randomized experimental designs.

⁵ APA Task Force on Psychological Intervention Guidelines (1995). Template for developing guidelines: Interventions for mental disorders and psychosocial aspects of physical disorders. Washington, DC: American Psychological Association; Chorpita, B.F., Barlow, D.H., Albano, A.M., & Daleiden, E.L. (1998). Methodological strategies in child clinical trials: Advancing the efficacy and effectiveness of psychosocial treatments. Journal of Abnormal Child Psychology, 26, 7-16.

⁶ Hoagwood, K., Hibbs, E., Brent, D., & Jensen, P. (1995). Introduction to the special section: Efficacy and effectiveness in studies of child and adolescent psychotherapy. Journal of Consulting and Clinical Psychology, 63, 683-687.

⁷ Mosher, D., Schulz, K.F. & Altman, D. (2001). The CONSORT Statement: Revised recommendations for improving the quality of reports of parallel-group randomized designs. Journal of the American Medical Association, 285, 1987-1991.

Educational effectiveness refers to research in which a previously tested efficacious intervention is examined with a heterogeneous group within a more naturalistic setting (e.g., a school) or is provided by real-world service practitioners rather than research therapists.⁸Standards exist for identifying efficacious interventions ⁹ and there are components of positive behavior support that meet the criteria for “probably efficacious” interventions.¹⁰

⁸ Hoagwood et al., supra note 6, at 683-687.

⁹ Division 12 Task Force. (1995). Training in and dissemination of empirically-validated psychological treatments: Report and recommendations. The Clinical Psychologist, 48, 3-23.

¹⁰ Kurtz, P.F., Chin, M.D., Huete, J.M., Tarbox, R.S., O'Connor, J.T., Paclawskyj, T.R., & Rush, K.S. (2003). Functional analysis and treatment of self-injurious behavior in young children a summary of 30 cases. Journal of Applied Behavior Analysis, 36, 205-219.

Priority: This priority supports rigorous efficacy and effectiveness evaluations of empirically based interventions designed to reduce severe problem behaviors and promote achievement and positive social development among children with severe behavior problems. A student with severe behavior problems is defined as a student whose behavior significantly impedes his or her own learning or the learning of others. Interventions must focus on skill building and address social and environmental obstacles.

Year one will be considered a pilot year in which awardees may work out final development issues for the intervention, pilot specific outcome measures, refine materials, work out implementation issues, and train school personnel. Such pilot work could, but need not, include a series of replicated single-case research designs. The implementation of the intervention will occur during years two through four.

Applications must:

(a) Propose a general design that is a randomized experiment in which each site randomly assigns students or classrooms or schools to the intervention or comparison group.

(b) Specify in detail what activities will be conducted in the pilot year.

(c) Propose to implement an intervention that is appropriate for children in grades kindergarten through eight.

(d) Provide a convincing theoretical and empirical rationale for the proposed intervention being likely to improve children's outcomes compared with the practices used in the comparison conditions. Programs must have some preliminary data or “soft” evidence supporting the potential effectiveness of the intervention or the potential effectiveness of the components of the intervention, if the applicant is combining components to form a more comprehensive intervention. Preliminary or soft evidence means that the data may not be conclusive. The preliminary data may have been gathered in such a way as not to rule out alternative hypotheses. For example, the investigator might have pre-test and post-test data indicating reduction in behavior problems or improvement in positive behavior in a school or classroom using the intervention, but not have data from a control group. This could also include controlled research not yet implemented across multiple sites or by typical intervention agents (e.g., teachers). This could also include work using single subject designs that have not been subjected to randomized designs. Preliminary data may include data that were obtained separately for specific components of the proposed intervention, but not from an evaluation of all of the proposed intervention components integrated into one intervention.

(e) Describe the level and type of behavior support that is in place for each school (such as the presence of school-wide discipline procedures). This information may be used in analyses to determine if differences across schools influence outcomes of the targeted intervention. Applicants should describe how the level and type of behavior support will be assessed.

(f) Provide access to students in a minimum of eight schools that agree to implement the proposed intervention (if assigned to the treatment condition) and to allow data collection to occur as outlined in this initiative (whether the school is selected for the treatment or comparison condition). Note that schools are not required to belong to the same school district.

Before applicants may receive awards, they must—

(1) provide written acknowledgement from schools that the schools agree to cooperate fully with the random assignment. To facilitate random assignment, applicants may offer incentives to schools, such as compensation for additional staff time required to cooperate with the research effort, and provision of additional resources to enable a school to conduct new activities under the project; and

(2) provide a letter of cooperation from participating schools or school districts for the purposes of conducting the research. In the letter of cooperation, representatives of the participating schools or school districts must clearly indicate and accept the responsibilities associated with participating in the study. These responsibilities must include (i) an agreement to provide a sufficient number of students to participate in the study; (ii) an agreement to the random assignment of students or classrooms or schools to the intervention being evaluated versus the comparison group (i.e., “business as usual”); and (iii) an agreement to cooperate with school-level data collection (e.g., school personnel competing interventions, data from school records indicating number of students receiving office referrals).

(g) Designate a coordinator to manage all aspects of data collection, intervention implementation, and interaction with the national contractor.

(h) Assure that they will provide approval from the applicant's Institutional Review Board (IRB) for conducting research with human subjects in time to begin data collection for schools for the cross-site study in the spring of year one of the award. Applicants need to have approval both for their own site-specific research and for the cross-site data collection.

(i) Propose a sample of sufficient size to detect meaningful differences between outcomes in the intervention and control condition, taking into account attrition, variability across sites and children, and differences in fidelity of implementation of the intervention. Initial samples of fewer than 80 participants may be insufficient and need to be carefully and persuasively justified. In general, the larger the sample the better. A power analysis should be included.

(j) Include students from a range of settings. These settings may include regular classrooms, segregated classrooms, or segregated schools, although the percentage of students in segregated settings should not exceed 60 percent of the total sample.

(k) Propose to use the intervention only if the intervention is based on the individual needs of the child and will not interfere with the services required on a child's individualized education program (IEP) or the broad procedural safeguards stated in the IDEA.

(l) Propose primary settings for evaluating the intervention only in classrooms within the child's educational placement. The intervention sites must implement the same intervention. The intervention must not be implemented in an intervention or comparison school prior to the beginning of the evaluation study.

(m) Describe how age-related effects will be addressed in the research if the range of ages of selected students spans across both elementary and middle school age students. For example, the investigator may randomly assign students into intervention and comparison groups using child age stratification so that the groups will not 5 differ significantly according to age. Age stratification would insure that the results are attributable to the experimental intervention and not differential maturation. Applicants are encouraged to incorporate age as a variable for analysis if there is a theoretical or empirical reason to analyze age as a variable in the research. In either case, applicants should discuss the rationale.

(n) Describe how the applicant will handle the flow of participants through each stage (a diagram is strongly recommended), and indicate how protocol deviations will be decided and handled.

(o) Provide research designs that permit the identification and assessment of factors impacting the fidelity of implementation. Mediating and moderating variables that are measured in the intervention condition and are also likely to affect outcomes in the comparison condition should be measured in the comparison condition (e.g., student time-on-task, school personnel experience/time in position). Outcome measures of behavior change and skill development should include standardized assessments of these outcomes.

Studies must be planned in such a way that the design ensures a contribution to a greater program of knowledge beyond the efficacy or effectiveness of a particular approach. This requires attending to replicability, including treatment manuals, standard subject selection and measures, and some links between theory and predictions.

(p) Describe plans to create an implementation manual for the intervention that provides sufficient information for others to be able to adopt and replicate the program.

(q) Propose complementary studies to conduct in conjunction with the cross-site program evaluation. Complementary studies provide investigators with the opportunity to design studies and collect data within the context of the cross-site evaluation. Investigators will be responsible for collecting the data for their complementary studies. Funding for this data collection must be included in the applicant's budget. The complementary research studies may address a range of issues related broadly to the efficacy or effectiveness of the intervention, the mechanisms by which the intervention results in behavioral improvements, the development of assessment tools, or other related topics. The complementary research provides an opportunity to identify outcomes that, because of data constraints, are not explored in the core evaluation or are specific to an individual site. It expands the possibilities for multiple measures of the same variable, and for the development of new measures. The scientific merit of the complementary studies will be considered an important aspect of the applicant's proposal.

(r) Address questions of implementation and how best to train and support school personnel in the use of these interventions in their classrooms.

(s) Use psychometrically sound observational, survey, or qualitative methodologies as a complement to experimental methodologies to assist in the identification of factors that may explain the effectiveness or ineffectiveness of the intervention.

(t) Propose research teams that collectively demonstrate expertise in (1) functional behavioral assessments and behavioral intervention, (2) implementation and analysis of results from the research design that will be employed, and (3) working with school personnel, schools, or other education delivery settings that will be employed.

(u) Provide information documenting the credentials and level of preparation required to deliver the intervention (e.g., certified teacher, paraprofessional) and the nature and extent of professional development, coaching, and monitoring required to effectively implement the intervention. Additionally, applicants should document existing family or community involvement in behavioral support plans.

(v) Discuss likely threats to the internal validity of the study including attrition, student mobility, existing behavioral intervention activities or programs at comparison schools, and potential difficulty in implementation.

Projects must include a plan to:

(a) Work with the Office of Special Education Programs (OSEP) and a national evaluation coordination contractor, funded through a separate competition, to carry out randomized experiments of behavioral interventions. The national evaluation coordination contractor, working with OSEP and the recipients of awards under this competition, will coordinate the collection of a core set of measures following consistent protocols across sites so that comparable outcome data (including measures of positive and negative behaviors) will be obtained across sites. Details concerning the responsibilities of each awardee vis-a-vis the national contractor are provided in the sections below.

(b) Within a month of receiving the award, meet with the Department and the national evaluation coordinator in Washington, DC to agree upon common procedures that will permit linking of the funded studies. This linking will require agreement on a set of common identification and outcome measures collected by all projects that will help the evaluation of findings across studies and the generalization of the findings. Projects must also plan for an additional meeting during year one and two meetings (each year) in years two through four, for cross project activities with Federal officials, the national evaluation coordination contractor, and the other awardees funded in this competition. In addition, projects must budget for a two-day Project Directors' meeting in Washington, DC during each year of the project.

(c) If the intervention is effective, deliver training on implementation to the control schools in the fourth year. For comparison schools, intervention training must not be provided to the school staff until the summer of year four, once the final cross-site data collection has been completed.

(d) Obtain active informed consent of parents of children participating in the study and of all school staff from whom data will be collected.

(e) Provide all necessary materials, training, and professional development to school personnel to implement the intervention to be evaluated in the intervention schools.

(f) Work with the national evaluation coordination contractor for the collection of cross-site data, in coordination with any local data collection activities. The collection (including timing) of the cross-site data will take precedence over any data collection activities for the complementary studies. Cross-site data must be collected from school staff and sent to the contractor in a timely fashion. There will be regular conference calls with OSEP staff, the national contractor, and each awardee to discuss, plan, and coordinate evaluation activities at each site.

Projects must provide data to the national evaluation coordination contractor from each site in the fall and spring of years two and three, and the spring of year four of the project period. The core set of evaluation data provided to the national contractor will include assessments of the function of the students' behavior problems, changes in targeted behaviors, measures of intervention implementation, identified pro-social behaviors and measures of academic achievement. The core evaluation data will be collected by the contractor and the individual awardees beginning in the first year of the implementation of intervention and continuing through the second and third years of the implementation. (Note: applicants are not limited to collecting data through shared assessment procedures.)

(g) Collaborate and participate with OSEP staff in the cross-site study activities, including, (1) the design and implementation of the cross-site research; (2) the development of a research protocol for IRB review by all collaborating institutions; (3) the analysis, presentation, and publication of the cross-site study findings; and (4) the monitoring and evaluation of the scientific and operational accomplishments of the project through conference calls, site visits, and review of technical reports.

(h) Assess the extent to which treatment outcomes produce meaningful changes in behavior. Clinical significance must be assessed for all outcomes.

(i) Conduct an economic analysis of the intervention (i.e., one of the outcome measures that must be collected by the awardee is the cost to conduct the intervention so that the cost-effectiveness of the intervention may be determined); and

(j) Form an advisory group to provide both technical and substantive guidance and feedback on project activities.

Waiver of Proposed Rulemaking: Under the Administrative Procedure Act (5 U.S.C. 553) the Department generally offers interested parties the opportunity to comment on proposed priorities. However, section 661(e)(2) of the IDEA makes the public comment requirements inapplicable to the priority in this notice.

Program Authority: 20 U.S.C. 1461 and 1472.

Applicable Regulations: The Education Department General Administrative Regulations (EDGAR) in 34 CFR parts 74, 75, 77, 80, 81, 82, 84, 85, 86, 97, 98, and 99.

Note: The regulations in 34 CFR part 86 apply to IHEs only.

II. Award Information

Type of Award: Cooperative agreements.

Estimated Available Funds: $4,300,000.

Estimated Average Size of Awards: $1,075,000.

Maximum Award: We will reject any application that proposes a budget exceeding $1,075,000 for a single budget period of 12 months. The Assistant Secretary for Special Education and Rehabilitative Services may change the maximum amount through a notice published in the Federal Register.

Estimated Number of Awards: 4.

Note: The Department is not bound by any estimates in this notice.

Project Period: Up to 48 months.

III. Eligibility Information

1. Eligible Applicants: SEAs; LEAs; IHEs; other public agencies; nonprofit private organizations; outlying areas; freely associated States; and Indian tribes or tribal organizations.

2. Cost Sharing or Matching: This competition does not involve cost sharing or matching.

3. Other: General Requirements—(a) The projects funded under this competition must make positive efforts to employ and advance in employment qualified individuals with disabilities (see section 606 of the IDEA).

(b) Applicants and grant recipients funded under this competition must involve individuals with disabilities or parents of individuals with disabilities in planning, implementing, and evaluating the projects (see section 661(f)(1)(A) of the IDEA).

IV. Application and Submission Information

1. Address to Request Application Package: Education Publications Center (ED Pubs), PO Box 1398, Jessup, MD 20794-1398. Telephone (toll free): 1-877-433-7827. FAX: (301) 470-1244. If you use a telecommunications device for the deaf (TDD), you may call (toll free): 1-877-576-7734.

You may also contact ED Pubs at its Web site: www.ed.gov/pubs/edpubs.html or you may contact ED Pubs at its e-mail address: edpubs@inet.ed.gov.

If you request an application from ED Pubs, be sure to identify this competition as follows: CFDA number 84.324P.

Individuals with disabilities may obtain a copy of the application package in an alternative format (e.g., Braille, large print, audiotape, or computer diskette) by contacting the Grants and Contracts Services Team listed under FOR FURTHER INFORMATION CONTACT in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography, the references, or the letters of support. However, you must include all of the application narrative in Part III.

We will reject your application if—

• You apply these standards and exceed the page limit; or

• You apply other standards and exceed the equivalent of the page limit.

3. Submission Dates and Times:

Applications Available: August 4, 2004.

Deadline for Transmittal of Applications: September 10, 2004.

We do not consider an application that does not comply with the deadline requirements.

Applications for grants under this competition may be submitted by mail or hand delivery (including a commercial carrier or courier service), or electronically using the Electronic Grant Application System (e-Application) available through the Department's e-GRANTS system. For information (including dates and times) about how to submit your application by mail or hand delivery, or electronically, please refer to Section IV. 6. Procedures for Submitting Applications in this notice.

4. Intergovernmental Review: This program is not subject to Executive Order 12372 and the regulations in 34 CFR part 79.

5. Funding Restrictions: We reference regulations outlining funding restrictions in the Applicable Regulations section of this notice.

6. Procedures for Submitting Applications: Applications for grants under this competition may be submitted electronically or in paper format by mail or hand delivery.

a. Electronic Submission of Applications.

If you submit your application to us electronically, you must use e-Application available through the Department's e-GRANTS system. The e-GRANTS system is accessible through its portal page at: http://e-grants.ed.gov.

If you use e-Application, you will be entering data online while completing your application. You may not e-mail an electronic copy of a grant application to us. The data you enter online will be saved into a database.

If you participate in e-Application, please note the following:

• Your participation is voluntary.

• You must submit your grant application electronically through the Internet using the software provided on the e-Grants Web site (http://e-grants.ed.gov) by 4:30 p.m., Washington, DC time, on the application deadline date. The regular hours of operation of the e-Grants Web site are 6 a.m. Monday until 7 p.m. Wednesday; and 6 a.m. Thursday until midnight Saturday, Washington, DC time. Please note that the system is unavailable on Sundays, and after 7 p.m. on Wednesdays for maintenance, Washington, DC time. Any modifications to these hours are posted on the e-Grants Web site. We strongly recommend that you do not wait until the application deadline date to initiate an e-Application package.

• You will not receive additional point value because you submit your application in electronic format, nor will we penalize you if you submit your application in paper format.

• You must submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The applicant's Authorizing Representative must sign this form.

3. Place the PR/Award number in the upper right hand corner of the hard copy signature page of the ED 424.

4. Fax the signed ED 424 to the Application Control Center at (202) 245-6272.

• We may request that you give us original signatures on other forms at a later date.

Application Deadline Date Extension in Case of System Unavailability: If you are prevented from submitting your application on the application deadline date because the e-Application system is unavailable, we will grant you an extension of one business day in order to transmit your application electronically, by mail, or by hand delivery. We will grant this extension if—

1. You are a registered user of e-Application and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under For Further Information Contact (see VII. Agency Contact) or (2) the e-GRANTS help desk at 1-888-336-8930.

You may access the electronic grant application for the Special Education—Research and Innovation to Improve Services and Results for Children with Disabilities—Evidence-Based Interventions for Severe Behavior Problems competition at: http://e-grants.ed.gov.

b. Submission of Paper Applications By Mail.

If you submit your application in paper format by mail (through the U.S. Postal Service or a commercial carrier), you must send the original and two copies of your application on or before the application deadline date to the following address: U.S. Department of Education, Application Control Center, Attention: (CFDA Number 84.324P), 400 Maryland Avenue, SW., Washington, DC 20202.

You must show proof of mailing consisting of one of the following:

1. A legibly dated U.S. Postal Service Postmark;

2. A legible mail receipt with the date of mailing stamped by the U.S. Postal Service;

3. A dated shipping label, invoice, or receipt from a commercial carrier; or

4. Any other proof of mailing acceptable to the U.S. Secretary of Education.

If you mail your application through the U.S. Postal Service, we do not accept either of the following as proof of mailing:

1. A private metered postmark, or

2. A mail receipt that is not dated by the U.S. Postal Service.

If your application is post marked after the application deadline date, we will notify you that we will not consider the application.

Note: Applicants should note that the U.S. Postal Service does not uniformly provide a dated postmark. Before relying on this method, you should check with your local post office.

c. Submission of Paper Applications by Hand Delivery.

If you submit your application in paper format by hand delivery, you (or a courier service) must deliver the original and two copies of your application on or before the application deadline date to the following address: U.S. Department of Education, Application Control Center, Attention: (CFDA Number 84.324P), 550 12th Street, SW., Room 7041, Potomac Center Plaza, Washington, DC 20202-4260.

The Application Control Center accepts deliveries daily between 8 a.m. and 4:30 p.m., Washington, DC time, except Saturdays, Sundays and Federal holidays. A person delivering an application must show identification to enter the building.

Note for Mail or Hand Delivery of Paper Applications: If you mail or hand deliver your application to the Department:

1. You must indicate on the envelope and—if not provided by the Department—in Item 4 of the Application for Federal Education Assistance (ED 424 (exp. 11/30/2004)) the CFDA number—and suffix letter, if any—of the competition under which you are submitting your application.

2. The Application Control Center will mail a Grant Application Receipt Acknowledgment to you. If you do not receive the notification of application receipt within 15 days from the mailing of your application, you should call the U.S. Department of Education Application Control Center at (202) 245-6288.

V. Application Review Information

Selection Criteria: The selection criteria for this competition are listed in 34 CFR 75.210 of EDGAR. The specific selection criteria to be used for this competition are in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department is currently developing indicators and measures that will yield information on various aspects of the quality of the Research and Innovation to Improve Services and Results for Children with Disabilities program. Included in these indicators and measures will be those that assess the quality and relevance of newly funded research projects. Two indicators will address the quality of new projects. First, an external panel of eminent senior scientists will review the quality of a randomly selected sample of newly funded research applications, and the percentage of new projects that are deemed to be of high quality will be determined. Second, because much of the Department's work focuses on questions of effectiveness, newly funded applications will be evaluated to identify those that address causal questions and then to determine what percentage of those projects use randomized field trials to answer the causal questions. To evaluate the relevance of newly funded research projects, a panel of experienced education practitioners and administrators will review descriptions of a randomly selected sample of newly funded projects and rate the degree to which the projects are relevant to practice.

Other indicators and measures are still under development in areas such as the quality of project products and long-term impact. Data on these measures will be collected from the projects funded under this competition. Awardees will also be required to report information on their projects' performance in annual reports to the Department (EDGAR, 34 CFR 75.590).

We will notify grantees of the performance measures once they are developed.

VII. Agency Contact

FOR FURTHER INFORMATION CONTACT: Renee Bradley, U.S. Department of Education, 400 Maryland Avenue, SW., room 4105, Potomac Center Plaza, Washington, DC 20202-2600. Telephone: (202) 245-7277.

If you use a telecommunications device for the deaf (TDD), you may call the Federal Information Relay Service (FIRS) at 1-800-877-8339.

Individuals with disabilities may obtain this document in an alternative format (e.g., Braille, large print, audiotape, or computer diskette) on request by contacting the following office: The Grants and Contracts Services Team, U.S. Department of Education, 400 Maryland Avenue, SW., room 5075, Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html

Dated: July 30, 2004.
Troy R. Justesen,
Acting Deputy Assistant Secretary for Special Education and Rehabilitative Services.

[FR Doc. 04-17739 Filed 8-3-04; 8:45 am]

BILLING CODE 4000-01-P